FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

ET date | Trans. No. | ET req status | Party name
Early Terminations Granted January 1, 2011 thru January 31, 2011
01/03/2011 | 20110401 | G | Royalty Pharma Cayman Holdings, L.P.; Cypress Bioscience, Inc.; Royalty Pharma Cayman Holdings, L.P.
01/04/2011 | 20110412 | G | TransForce Inc.; Dynamex Inc.; TransForce Inc.
| 20110416 | G | Ezra Holdings Limited; Aker Solutions ASA; Ezra Holdings Limited.
| 20110427 | G | Cequel Communications Holdings, LLC; News-Press & Gazette Company; Cequel Communications Holdings, LLC.
01/05/2011 | 20110320 | G | Medtronic, Inc.; Ardian, Inc.; Medtronic, Inc.
| 20110409 | G | KPCB Digital Growth Fund, LLC; Twitter, Inc.; KPCB Digital Growth Fund, LLC.
| 20110418 | G | Schnitzer Steel Industries, Inc.; Edgar Jackson, Trustee, William Jackson Family Trust; Schnitzer Steel Industries, Inc.
| 20110433 | G | Aviation Industry Corporation of China; Teledyne Technologies Incorporated; Aviation Industry Corporation of China.
01/06/2011 | 20110421 | G | The GEO Group. Inc.; AEA Investors 2006 Fund L.P.; The GEO Group, Inc.
| 20110428 | G | Rhone Partners III LP; Donata Holding SE; Rhone Partners III LP.
| 20110429 | G | Berkshire Fund VII, L.P.; Donata Holding SE; Berkshire Fund VII, L.P.
| 20110430 | G | Rhone Offshore Partners III L.P.; Donata Holding SE; Rhone Offshore Partners III L.P.
01/07/2011 | 20110410 | G | Hancock Timberland X LP; Weyerhaeuser Company; Hancock Timberland X LP.
| 20110414 | G | TPG Capital VI, L.P.; J. Crew Group, Inc.; TPG Capital VI, L.P.
| 20110415 | G | Manulife Financial Corporation; Weyerhaeuser Company; Manulife Financial Corporation.
| 20110435 | G | Lincolnshire Equity Fund IV-A, L.P.; Trilantic Capital Partners III L.P.; Lincolnshire Equity Fund IV-A, L.P.
| 20110436 | G | Kikuchi Co., Ltd.; Takao Kinzoku Kogyo Co., Ltd.; Kikuchi Co., Ltd.
01/10/2011 | 20110426 | G | United Fire & Casualty Company; Mercer Insurance Group, Inc.; United Fire & Casualty Company.
| 20110439 | G | Mr. Malvinder Mohan Singh; Landmark Partners, Inc.-CT; Mr. Malvinder Mohan Singh.
| 20110440 | G | Mr. Shivinder Mohan Singh: Landmark Partners, Inc.-CT; Mr. Shivinder Mohan Singh.
01/12/2011 | 20110389 | G | SAFRAN SA; L-1 Identity Solutions, Inc.; SAFRAN SA.
| 20110446 | G | Mark West Energy Partners, L.P.; EQT Corporation; Mark West Energy Partners, L.P.
01/14/2011 | 20110404 | G | Investor AB; The NASDAQ OMX Group, Inc.; Investor AB.
| 20110424 | G | Teradata Corporation; Aprimo, Inc.; Teradata Corporation.
| 20110447 | G | The Coca-Cola Company; Honest Tea Inc.; The Coca-Cola Company.
| 20110450 | G | Plains All American Pipeline, L.P.; SGR Holdings, L.L.C.; Plains All American Pipeline, L.P.
| 20110454 | G | Warburg Pincus Private Equity X, L.P.; ReSearch Pharmaceutical Services, Inc.; Warburg Pincus Private Equity X, L.P.
| 20110456 | G | AJAG Holdco, Inc.; ACO Holding LP; AJAG Holdco, Inc.
01/18/2011 | 20110455 | G | Teledyne Technologies Incorporated; DALSA Corporation; Teledyne Technologies Incorporated.
01/19/2011 | 20100756 | G | Hartford Health Care Corporation; Central Connecticut Health Alliance, Inc.; Hartford Health Care Corporation.
| 20110392 | G | GlaxoSmithKline plc; Affiris GmbH; GlaxoSmithKline plc.
01/20/2011 | 20110373 | G | ABB Ltd; Baldor Electric Company; ABB Ltd.
01/21/2011 | 20110445 | G | Rovi Corporation; Sonic Corporation; Rovi Corporation.
01/24/2011 | 20110457 | G | John Wood Group PLC; Production Services Network, Ltd.; John Wood Group PLC.
| 20110464 | G | Fairfax Financial Holdings Limited; AbitibiBowater Inc.; Fairfax Financial Holdings Limited.
| 20110465 | G | Green Equity Investors V, L.P.; Jo-Ann Stores, Inc.; Green Equity Investors V, L.P.
| 20110468 | G | New Generations Trust; Thomas and Dafna Kaplan; New Generations Trust.
| 20110470 | G | Koch Industries, Inc.; Hawkeye Renewables, LLC; Koch Industries, Inc.
| 20110475 | G | Cephalon, Inc.; Mesoblast Limited; Cephalon, Inc.
| 20110476 | G | Arthur D. Levinson; Apple Inc.; Arthur D. Levinson.
| 20110478 | G | iGATE Corporation; Patni Computer Systems Limited; iGATE Corporation.
| 20110480 | G | Apax Europe VII-B, L.P.; iGATE Corporation; Apax Europe VII-B, L.P.
| 20110485 | G | Holcim Ltd.; John Victor Lattimore, Jr.; Holcim Ltd.
01/25/2011 | 20110322 | G | BE Aerospace, Inc.; Robert Tracey; BE Aerospace, Inc.
01/27/2011 | 20110340 | G | General Mills, Inc.; Dean Foods Company; General Mills, Inc.
| 20110448 | G | Prysmian S.p.A.; Draka Holding N.V.; Prysmian S.p.A.
| 20110466 | G | Alfa Laval AB; Altor II Sarl; Alfa Laval AB.
| 20110508 | G | Pfizer Inc.; King Pharmaceuticals, Inc.; Pfizer Inc.
01/28/2011 | 20110441 | G | Raytheon Company; Applied Signal Technology, Inc.; Raytheon Company.
| 20110461 | G | Occidental Petroleum Corporation; Antonia Lophitou; Occidental Petroleum Corporation.
| 20110493 | G | Wayzata Opportunities Fund II, LP.; Public Service Enteprise Group Incorporation; Wayzata Opportunities Fund II, L.P.
| 20110501 | G | Hubbard Broadcasting, Inc.; Deseret Management Corporation; Hubbard Broadcasting Inc.
01/31/2011 | 20110337 | G | Cenveo, Inc.; MeadWestvaco Corporation; Cenveo, Inc.
| 20110471 | G | TSRC Corporation; The Dow Chemical Company; TSRC Corporation.
| 20110473 | G | TSRC Corporation; Exxon Mobil Corporation; TSRC Corporation.

FOR FURTHER INFORMATION CONTACT: Sandra M. Peay, Contact Representative or Renee Chapman, Contact Representative, Federal Trade Commission, Premerger Notification Office, Bureau of Competition, Room H-303 Washington, DC 20580, (202) 326-3100.

By direction of the Commission.
Donald S. Clark,
Secretary.

[FR Doc. 2011-3175 Filed 2-14-11; 8:45 am]

BILLING CODE 6750-01-M